DEPARTMENT OF COMMERCE

International Trade Administration

[A-570-910]

Circular Welded Carbon Quality Steel Pipe From the People's Republic of China: Preliminary Results of Antidumping Administrative Review and Partial Rescission; 2017-2018

AGENCY: Enforcement and Compliance, International Trade Administration, Department of Commerce.

SUMMARY: The Department of Commerce (Commerce) preliminarily determines that none of the companies under review have demonstrated eligibility for a separate rate during the period of review (POR) July 1, 2017, through June 30, 2018. Interested parties are invited to comment on these preliminary results.

DATES: Applicable May 20, 2019.

FOR FURTHER INFORMATION CONTACT: Aleksandras Nakutis, AD/CVD Operations, Office IV, Enforcement & Compliance, International Trade Administration, U.S. Department of Commerce, 1401 Constitution Avenue NW, Washington, DC 20230; telephone: (202) 482-3147.

SUPPLEMENTARY INFORMATION:

Background

After initiating this review of 128 companies, the following events occurred.¹ Zekelman Industries (Zekelman), a domestic interested party, timely withdrew its request for an administrative review of 20 companies. Commerce issued an antidumping duty questionnaire to Beijing Bell Plumbing Manufacturing Ltd (Beijing Bell). Beijing Bell did not respond to the questionnaire. Commerce exercised its discretion to toll all deadlines affected by the partial federal government closure from December 22, 2018, through the resumption of operations on January 29, 2019.² If the new deadline falls on a non-business day, in accordance with Commerce's practice, the deadline will become the next business day. The revised deadline for the preliminary results of review is now May 13, 2019. For a complete description of the events that followed the initiation of this administrative review, see the Preliminary Decision Memorandum hereby adopted by this notice.³

¹ See Initiation of Antidumping and Countervailing Duty Administrative Reviews, 83 FR 45596 (September 10, 2018) (Initiation Notice).

² See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

³ See the Memorandum from Commerce, “Decision Memorandum for the Preliminary Results of the Antidumping Duty Administrative Review of Circular Welded Carbon Quality Steel Pipe from the People's Republic of China,” dated concurrently with this notice (Preliminary Decision Memorandum).

Scope of the Order

The merchandise subject to the order is certain welded carbon quality steel pipes and tubes, of circular cross-section, and with an outside diameter of 0.372 inches (9.45 mm) or more, but not more than 16 inches (406.4 mm), whether or not stenciled, regardless of wall thickness, surface finish (e.g., black, galvanized, or painted), end finish (e.g., plain end, beveled end, grooved, threaded, or threaded and coupled), or industry specification (e.g., ASTM, proprietary, or other), generally known as standard pipe and structural pipe (they may also be referred to as circular, structural, or mechanical tubing).

The pipe products that are the subject of the order are currently classifiable in HTSUS statistical reporting numbers 7306.30.10.00, 7306.30.50.25, 7306.30.50.32, 7306.30.50.40, 7306.30.50.55, 7306.30.50.85, 7306.30.50.90, 7306.50.10.00, 7306.50.50.50, 7306.50.50.70, 7306.19.10.10, 7306.19.10.50, 7306.19.51.10, and 7306.19.51.50. However, the product description, and not the Harmonized Tariff Schedule of the United States (HTSUS) classification, is dispositive of whether merchandise imported into the United States falls within the scope of the order.⁴

⁴ See Preliminary Decision Memorandum for full scope language.

Partial Rescission

Pursuant to 19 CFR 351.213(d)(1), Commerce will rescind an administrative review, in whole or in part, if a party that requested the review withdraws its request within 90 days of the date of publication of the notice of initiation of the requested review. Zekelman withdrew its request to review 20 companies within 90 days of the date of publication of Initiation Notice; ⁵ however, Independence Tube Corporation, and Southland Tube Incorporated, which are Nucor companies (collectively, the petitioners), did not withdraw their request to review 122 companies, including all but three of the companies for which Zekelman withdrew its review request. Thus, Zekelman, the only party to request a review of the six companies listed below, timely withdrew its request for an administrative review of these three companies. Accordingly, Commerce is rescinding this review, in part, with respect to the following companies, in accordance with 19 CFR 351.213(d)(1): ⁶ (1) Beijing Jia Mei Ao Trade Co., Ltd.; (2) Beijing Jinghau Global Trading Co.; (3) Benxi Northern Steel Pipes, Co., Ltd.; (4) ETCO (China) International Trading Co., Ltd.; (5) Huludao City Steel Pipe Industrial; and (6) Tianjin Shuangjie Steel Pipe Co., Ltd.

⁵ See Letter from Zekelman, “Circular Welded Carbon Quality Steel Pipe from the People's Republic of China: Withdrawal of Request for Administrative Review,” dated October 17, 2018.

⁶ As stated in Change in Practice in NME Reviews, Commerce will no longer consider the non-market economy (NME) entity as an exporter conditionally subject to administrative reviews. See Antidumping Proceedings: Announcement of Change in Department Practice for Respondent Selection in Antidumping Duty Proceedings and Conditional Review of the Nonmarket Economy Entity in NME Antidumping Duty Proceedings, 78 FR 65963 (November 4, 2013) (Change in Practice in NME Reviews). The China-wide entity is not subject to this administrative review because no interested party requested a review of the entity. See Initiation Notice.

Methodology

Commerce is conducting this review in accordance with section 751(a)(1)(B) of the Tariff Act of 1930, as amended (the Act). For a full description of the methodology underlying these preliminary results of review, see the Preliminary Decision Memorandum. A list of topics discussed in the Preliminary Decision Memorandum is provided in Appendix I to this notice.

The Preliminary Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Preliminary Results Decision Memorandum can be accessed directly on the internet at http://enforcement.trade.gov/frn/index.html. The signed and the electronic versions of the Preliminary Decision Memorandum are identical in content.

Separate Rates

In proceedings involving NME countries, Commerce begins with a rebuttable presumption that all companies within the NME country are subject to government control and that a single weighted-average dumping margin (e.g., the China-wide rate) is applicable to all exporters under review unless an exporter can demonstrate that it is sufficiently independent so as to be entitled to a separate rate. None of the companies under review filed a separate rate application, separate rate certification, or no shipment certification. Moreover, the sole mandatory respondent, Beijing Bell, did not respond to the AD questionnaire. Therefore, Commerce preliminarily determines that none of the companies under review are entitled to a separate rate and has treated them as part of the China-wide entity. For additional information regarding Commerce's separate rates determination, see the Preliminary Decision Memorandum.

Preliminary Results of Review

As noted above, none of the companies under review are entitled to a separate rate and thus we have treated them as part of the China-wide entity.⁷ Because no party requested a review of the China-wide entity, the entity is not under review and the entity's rate (i.e., 85.55 percent) is not subject to change in this review.⁸ The companies under review that are being treated as part of the China-wide entity are listed in Appendix II to this notice.

⁷ See Preliminary Decision Memorandum.

⁸ See Circular Welded Carbon Quality Steel Pipe From the People's Republic of China: Notice of Court Decision Not in Harmony with Final Determination and Amended Final Determination Under Section 129 of the Uruguay Round Agreements Act, 80 FR 70758 (November 16, 2015).

Public Comment

Interested parties are invited to comment on the preliminary results of this review and may submit case briefs and/or written comments, filed electronically using ACCESS, within 30 days of the date of publication of this notice, pursuant to 19 CFR 351.309(c)(1)(ii). Rebuttal briefs, limited to issues raised in the case briefs, will be due five days after the due date for case briefs, pursuant to 19 CFR 351.309(d). Parties who submit case or rebuttal briefs in this review are requested to submit with each argument a statement of the issue, a summary of the argument not to exceed five pages, and a table of statutes, regulations, and cases cited, in accordance with 19 CFR 351.309(c)(2).

Pursuant to 19 CFR 351.310(c), interested parties, who wish to request a hearing must submit a written request to the Assistant Secretary for Enforcement and Compliance, U.S. Department of Commerce, filed electronically using ACCESS. Electronically filed case briefs/written comments and hearing requests must be received successfully in their entirety by Commerce's electronic records system, ACCESS, by 5:00 p.m. Eastern Time, within 30 days after the date of publication of this notice.⁹ Hearing requests should contain: (1) The party's name, address and telephone number; (2) the number of participants; and (3) a list of issues to be discussed. Issues raised in the hearing will be limited to those issues raised in the respective case briefs. If a request for a hearing is made, parties will be notified of the time and date of the hearing which will be held at the U.S. Department of Commerce, 1401 Constitution Avenue NW, Washington DC 20230.

⁹ See 19 CFR 351.310(c).

Unless extended, Commerce intends to issue the final results of this administrative review, including the results of its analysis of the issues raised in any written briefs, not later than 120 days after the date of publication of this notice, pursuant to section 751(a)(3)(A) of the Act.

Assessment Rates

Upon issuance of the final results of this review, Commerce will determine, and CBP shall assess, antidumping duties on all appropriate entries covered by this review.¹⁰ Commerce intends to issue assessment instructions to CBP 15 days after the publication date of the final results of this review. If our preliminary results of review are unchanged in the final results of review, Commerce intends to instruct CBP to liquidate all POR entries of subject merchandise from any of the 121 companies under review at 85.55 percent (the China-wide rate).

¹⁰ See 19 CFR 351.212(b)(1).

For companies for which the review has been rescinded, Commerce will instruct CBP to assess antidumping duties on entries of subject merchandise at rates equal to the cash deposit of estimated antidumping duties required at the time of entry, or withdrawal from warehouse, for consumption, in accordance with 19 CFR 351.212(c)(l)(i).

Cash Deposit Requirements

The following cash deposit requirements will be effective upon publication of the final results of this administrative review for all shipments of the subject merchandise entered, or withdrawn from warehouse, for consumption on or after the publication date of the final results of review, as provided by section 751(a)(2)(C) of the Act: (1) For previously investigated or reviewed Chinese and non-Chinese exporters which are not under review in this segment of the proceeding but which have separate rates, the cash deposit rate will continue to be the exporter-specific rate published for the most recent period; (2) for all Chinese exporters of subject merchandise that have not been granted a separate rate, including Beijing Bell, the cash deposit rate will be the China-wide rate of 85.55 percent; and (3) for all non-Chinese exporters of subject merchandise which have not received their own rate, the cash deposit rate will be the rate applicable to the Chinese exporter(s) that supplied that non-Chinese exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

We are issuing and publishing these results in accordance with sections 751(a)(1) and 777(i)(1) of the Act and 19 CFR 351.213(d)(4) and 351.221(b)(4).

Dated: May 13, 2019.
Jeffrey I. Kessler,
Assistant Secretary for Enforcement and Compliance.

Appendix I

List of Sections in the Preliminary Decision Memorandum

I. Summary

II. Background

III. Scope of the Order

IV. Partial Rescission

V. Discussion of the Methodology

A. Non-Market Economy Country Status

B. Separate Rates

C. Allegation of Duty Evasion

VI. Recommendation

Appendix II

The following companies are being treated as part of the China-wide entity:

A&T Industry Co., Ltd.

Allied Transport System Inc.

AM Global Shipping Lines

Ample Star Enterprises

Apex Maritime (Tianjin) Co., Ltd.

Artson Fuzhou Co., Ltd.

Baoshan Iron & Steel Co., Ltd.

Bazhou Dongsheng Hot-Dipped Galvanized Steel Pipe Co., Ltd.

Bazhou Zhuofa Steel Pipe Co. Ltd.

Beijing Bell Plumbing Manufacturing Ltd

Beijing Jia Mei Ao Trade Limited

Beijing Jinghua Shunqi Trading Co., Ltd.

Beijing Kaishengao Import & Export

Beijing Kang Jie Kong International Cargo Agent Co., Ltd.

Beijing Sai Lin Ke Hardware Co., Ltd.

Beijing Zhongxingtong Technology Company Limited

Benxi Northern Pipes Co., Ltd.

Bestar Steel Co., Ltd.

Boyu M/E Company Limited

Cangzhou Huasheng Modern Casting Company Limited

Chaoteng Group Ltd.

CI Consolidators Services Limited

CNOOC Kingland Pipeline Co., Ltd.

Dalian Brollo Steel Tubes Ltd.

Dalian Shipbuilding Import Export Company

DSC Quanzhou Dongshan Machine Co., Ltd

Etco International Trading Co., Ltd.

Feel Light Co., Ltd.

Giant-Move Equipment Co., Ltd.

Guangdong Walsall Steel Pipe Industrial Co., Ltd.

Guangzhou Juyi Steel Pipe Co., Ltd.

Hainan Standard Stone Company Ltd.

Hangzhou Chaoteng International

Hangzhou Shunlan Trading Company Limited

Hebei Machinery Import & Export Co., Ltd.

Hebei Metals & Engineering Products Co., Ltd.

Hefei Ziking Steel Pipe Co., Ltd.

Hengshui Jinghua Steel Pipe Co., Ltd.

Hengyang Valin Steel Tube Group Trading Co. Ltd.

Herede Engineering Ltd.

Hubei Xin Yegang Special Tube Co.

Hulado City Steel Pipe Industrial Co., Ltd.

Hunan Henyang Steel Tube (Group) Co., Ltd.

Jiangsu Changbao Steel Tube Co., Ltd.

Jiangsu Hen-Yuan Garden Supplies Company Ltd.

Jiangsu Yulong Steel Pipe Co., Ltd.

Jiangsu Zhongheng Dyeing & Finishing Co., Ltd.

Jiangyin Jianye Metal Products Co., Ltd.

Jinan Meide Casting Co. Ltd.

Jinan Meide Piping Technology Company Ltd.

Jiangsu Guoqiang Zinc-Plating Industrial Company, Ltd.

Kun Shan Sandia Special Steel Pipe Co., Ltd.

Kunshan City Yuan Han Electronic Co., Ltd.

Kunshan Lets Win Steel Machinery Co., Ltd.

Kunshan Taiheiyo Precision Machinery Co., Ltd.

LF Logistics (China) Co., Ltd.

Lianji Chemical Industry Co Limited

Liaoning Northern Steel Pipe Co., Ltd.

Longyou Yilaida Electric Appliance Co., Ltd.

Myriad Treasure Trading Co., Ltd

Nb Bedding & Living Company Limited

Ningbo Acei Screw Plug Inc.

Ningbo Haishu Jiayong Xingyo Import & Export Co., Ltd.

Ningbo Sunny Foreign Trade Co., Ltd.

Orient Express Container Co., Ltd.

Pacific Star Express Corporation

Pangang Chengdu Group Iron & Steel Co., Ltd.

Panyu Chu Kong Steel Pipe Co., Ltd.

Pudong Prime International Company Limited

Qingdao Ocean Master Steel & Plastic Co., Ltd.

Qingdao Xiangxing Steel Pipe Co., Ltd.

Qingdao Yongjie Import & Export Co., Ltd.

Ritime Group Inc.

Rizhao Xingye Import & Export Co., Ltd.

Rogers Corporation

Shandong Liancheng Auto Parts Company

Shandong Xinyuan Group Co., Ltd.

Shanghai Freeland International Trading Co. Ltd.

Shanghai Golden Bridge Int'l Logistic Co., Ltd.

Shanghai ITPC Import & Export Co. Ltd

Shanghai Metals & Minerals Import & Export Corporation

Shanghai Pudong International Transportation

Shanghai Wor-Biz Trading Co., Ltd.

Shanghai Zhongyou TIPO Steel Pipe Co., Ltd.

Shaoxing Xinyue Trade Co., Ltd.

Shenyang Boyu M/E Co., Ltd.

Shenyang Machinery Import & Export Co., Ltd.

Shijiazhuang Zhongqing Imp & Exp Co., Ltd.

Sichuan Y&J Industries Company Limited

Spat Steel International Hong Kong Limited

Suzhou Hongsheng Lighting Products Co. Ltd

Tangshan Fengnan District Xinlida Steel Pipe Co., Ltd.

The Huludao Steel Tube Industry Co., Ltd.

Tianjin Baolai Int'l Trade Co., Ltd.

Tianjin Haoyou Industry Trade Co., Ltd.

Tianjin Hongshengxiang Paper Company

Tianjin Lifengyuanda Steel Group Co. Ltd.

Tianjin Lituo Steel Products Co., Ltd.

Tianjin Longshenghua Import & Export

Tianjin No. 1 Steel Rolled Co., Ltd.

Tianjin Pipe International Economic & Trading Corporation

Tianjin Ruitong Steel Co., Ltd.

Tianjin Shenzhoutong Steel Pipe Co., Ltd.

Tianjin Vision International Trading Co., Ltd.

Tianjin Xingyuda Import and Export Co., Ltd.

Tianjin Xingyunda Steel Pipe Co., Ltd.

Tianjin Yayi Industrial Co., Ltd.

Translink Shipping, Inc.

Weifang East Steel Pipe Co., Ltd.

Wisco And Crm Wuhan Materials & Trading Co., Ltd.

Wuhan Bosen Trade Co., Ltd.

Wuxi Eric Steel Pipe Co., Ltd.

Wuxi Fastube Industry Co., Ltd.

Wuxi Marca International Imports And Exports

Xuzhou Global Pipe & Fitting Manufacturing Co., Ltd.

Xuzhou Guang Huan Steel Tube Products Co., Ltd.

Xuzhou Yongsheng Pipe & Fitting Co., Ltd.

Yangzhou Lontrin Steel Tube Co., Ltd.

Zhangjiagang Hengchang Welding Materials Co., Ltd.

Zhangjiangang Zhongyuan Pipe-Making Co., Ltd.

Zhejiang Kingland Pipeline Industry Co., Ltd.

Zhejiang Machinery & Equipment Import & Export Co., Ltd.

[FR Doc. 2019-10437 Filed 5-17-19; 8:45 am]

BILLING CODE 3510-DS-P